DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5:00 P.M. in Room 4211, U.S. Department of Commerce, 14th Street and Constitution Avenue, NW., Washington, DC.

Docket Number: 00-033. Applicant: University of Florida, Department of Geological Sciences, 241 Williamson Hall, PO Box 112120, Gainesville, FL 32611. Instrument: Multi-Sensor Core Logger. Manufacturer: GEOTEK Ltd., United Kingdom. Intended Use: The instrument is intended to be used to rapidly, accurately and automatically collect information on physical properties of sediment cores collected from locations such as the bottom of lakes, the ocean, and wetlands. The objective of the research is to provide further information (P-wave velocity, density, magnetic susceptibility, sediment core thickness and high resolution visible images) about past conditions recorded in sediment cores. The data will be combined with the geochemical, isotopic, botanical, and sedimentological data that are already collected on these sediment cores. In addition, the instrument will be used for educational purposes in Paleolimnology (GLY 6932) the study of past lake systems and the records of climate, biology, vegetation, etc. preserved in lake sediments. The class introduces methods of study of past climates of the Quaternary period. Application accepted by Commissioner of Customs: October 17, 2000.

Docket Number: 00-034. Applicant: University of Rochester, Lab for Laser Energetics, 250 East River Road, Rochester, NY 14623. Instrument: Scanning Nearfield Optical Microscope. Manufacturer: WITec, Germany. Intended Use: The instrument is intended to be used for studies of both inorganic crystals and glasses as used in advanced optical technologies and organic substances such as polymers and biopolymers that may be present in optical materials either as undesired impurities or for the purpose of enhancing the materials' performance. The analysis tasks are of the spatially resolved spectroscopy type: (a) Raman Imaging, (b) single-molecule emission and (c) nonlocal fluorescence spectroscopy. In addition, the instrument will be used for educational purposes in “Nanooptics” a graduate level course that introduces doctoral-level students to the principles and applications of subwavelength optical phenomena and applications. Application accepted by Commissioner of Customs: October 17, 2000.

Frank W. Creel,
Director, Statutory Import Programs Staff.

[FR Doc. 00-28044 Filed 10-31-00; 8:45 am]

BILLING CODE 3510-DS-P